DEPARTMENT OF TRANSPORTATION

Federal Aviation Administration

Notice of Availability of an Environmental Assessment (EA) and Finding of No Significant Impact/Record of Decision (FONSI/ROD) Executed by the Michigan Department of Transportation—Bureau of Aeronautics and Freight Services (MDOT) and the Federal Aviation Administration (FAA) for the Evaluation of Environmental Impacts Associated With Proposed Airport Improvements for the Jackson County Airport, Located in Jackson, MI

AGENCY: Federal Aviation Administration, Department of Transportation.

ACTION: Notice of availability of an EA and FONSI/ROD executed by MDOT and the FAA for the evaluation of environmental impacts associated with proposed airport improvements for the Jackson County Airport located in Jackson, Michigan.

SUMMARY: The FAA is making available an EA and FONSI/ROD for the evaluation of environmental impacts associated with proposed improvements to the Jackson County Airport located in Jackson, Michigan. The proposed improvements include the relocation of Runway 6/24 and the shift and extension of Runway 14/32.

Point of Contact: Mr. Brad Davidson, Environmental Protection Specialist, FAA Great Lakes Region, Detroit Airports District Office, 11677 South Wayne Road, Suite 107, Romulus, MI 48174, (734) 229-2900.

SUPPLEMENTARY INFORMATION: The FAA is making available an EA and FONSI/ROD for the evaluation of environmental impacts associated with proposed airport improvements, executed by MDOT and the FAA, for the Jackson County Airport located in Jackson, Michigan. The purpose of the EA and FONSI/ROD was to evaluate potential environmental impacts arising from the proposed airport improvement project involving the relocation of Runway 06/24 and a shift and extension to Runway 14/32.

These documents will be available during normal business hours at the following location: FAA Detroit Airports District Office, 11677 South Wayne Road, Suite 107, Romulus, MI 48174.

Due to current security requirements, arrangements must be made with the point of contact prior to visiting this office.

Issued in Detroit, Michigan, December 13, 2006.
Irene R. Porter,
Manager, Detroit Airport District Office, FAA, Great Lakes Region.

[FR Doc. 06-9941 Filed 12-29-06; 8:45 am]

BILLING CODE 4910-13-M